DEPARTMENT OF TRANSPORTATION

Federal Highway Administration

Environmental Impact Statement: St. Louis County, Missouri

AGENCY: Federal Highway Administration (FHWA), DOT.

ACTION: Notice of intent.

SUMMARY: The FHWA is issuing this notice to advise the public that an Environmental Impact Statement (EIS) will not be prepared for proposed improvements to the corridor generally following the existing pathway created by Missouri Bottom Road, Aubuchon Road, and Charbonier Road between Earth City Expressway and Howdershell/Shackelford Road in northwestern St. Louis County, Missouri.

FOR FURTHER INFORMATION CONTACT: Ms. Raegan Ball, Program Development Team Leader, FHWA Division Office, 3220 West Edgewood, Suite H, Jefferson City, MO 65109, Telephone: (573) 638-2620; or Mr. Ed Hassinger, Chief Engineer, Missouri Department of Transportation, 105 W. Capitol Avenue, Jefferson City, MO 65102, Telephone: (573) 751-3692. Questions may also be directed to the Local Public Agency sponsor by contacting Mr. Adam Spector, Transportation Studies Project Manager, St. Louis County Department of Transportation, 1050 N. Lindbergh, Clayton, Missouri 63132, Telephone: (314) 615-8594.

SUPPLEMENTARY INFORMATION: The FHWA, in cooperation with the Missouri Department of Transportation (MoDOT) and the St. Louis County Department of Transportation, published a notice of intent to prepare an EIS in the Federal Register dated September 13, 2011 (76 FR 56492) to investigate potential corridor improvements for Missouri Bottom Road, Aubuchon Road, and Charbonier Road in St. Louis County, Missouri.

Due to a lack of long-term funding for construction of the draft preferred alternative, the project has been put on hold indefinitely. At this time, there are no plans to prepare a Final EIS for this project.

Comments or questions concerning this notice should be directed to FHWA, MoDOT, or St. Louis County Department of Transportation at the addresses provided above.

Issued on: May 4, 2017.
Kevin Ward,
Division Administrator, Jefferson City, Missouri.

[FR Doc. 2017-12081 Filed 6-9-17; 8:45 am]

BILLING CODE 4910-22-P